DEPARTMENT OF THE INTERIOR

National Park Service

30-day Notice of Intention To Request Clearance of Collection of Information; Opportunity for Public Comment

AGENCY: National Park Service, Interior.

ACTION: Notice and request for comments.

SUMMARY: Under the provisions of the Paperwork Reduction Act of 1995 and 5 CFR part 1320, Reporting and Recordkeeping Requirements, the National Park Service (NPS) invites public comments on an extension of a currently approved collection of information (OMB #1024-0226).

DATES: Public comments on this Information Collection Request (ICR) will be accepted on or before September 24, 2009.

ADDRESSES: You may submit comments directly to the Desk Officer for the Department of the Interior (OMB #1024-0226), Office of Information and Regulatory Affairs, Office of Management and Budget (OMB), by fax at 202/395-5806, or by electronic mail at oira_docket@omb.eop.gov. Please also mail or hand carry a copy of your comments to Charlie Stockman, Outdoor Recreation Planner, Rivers, Trails and Conservation Assistance Program, National Park Service, 1201 Eye Street, NW., flr 9, Washington, DC 20005 or via fax at 202/371-5179.

FOR FURTHER INFORMATION CONTACT: Charlie Stockman, Outdoor Recreation Planner, Rivers, Trails and Conservation Assistance Program, National Park Service, 1201 Eye Street, NW., flr 9, Washington, DC 20005 or via fax at 202/371-5179. You are entitled to a copy of the entire ICR package free-of-charge. You may access this ICR at http://www.reginfo.gov/public/.

Comments Received on the 60-Day Federal Register Notice: The NPS published a 60-day notice to solicit public comments on this ICR in the Federal Register on April 7, 2009 (74 FR 15742). The comment period closed on June 8, 2009. No comments were received on this notice.

SUPPLEMENTARY INFORMATION: OMB Control Number: 1024-0226.

Title: National Park Service Partnership Satisfaction Surveys.

Form(s): None.

Type of Request: Extension of a currently approved collection of information.

Description of Need: The Government Performance and Results Act requires Federal agencies to prepare annual performance reports documenting the progress made toward achieving long-term goals. The National Park Service needs the information in the proposed collections to assess the annual progress being made toward meeting Long-term Goal IIIb2 of the National Park Service Strategic Plan. Goal IIIb2 performance target is 95% of communities served are satisfied with NPS partnership assistance in providing recreation and conservation benefits on lands and waters. The information sought is not collected elsewhere by the Federal Government. The proposed information collections impose no data collection or record keeping burden on the potential respondents. Responses to the surveys are voluntary and are based on data that the respondents already collect and/or personal opinion. The National Park Service needs this information to help evaluate and improve its partnership assistance programs. NPS' Rivers, Trails and Conservation Assistance Program (RTCA) and Federal Lands to Parks (FLP) Program will conduct surveys to assess client satisfaction with the services received and to identify needed program improvements. The NPS conducts these surveys to identify areas of strengths and weaknesses in its recreation and conservation assistance programs, to provide an information base for improving those programs, and to provide a required performance measurement (Goal IIIb2 of the National Park Service Strategic Plan) under the Government Performance and Results Act.

Affected public: 180 surveys to private sector and public sector contacts for RTCA and 75 surveys for FLP. A total of 255 surveys to be sent in 2010 and 255 surveys to be sent in 2012.

Obligation to respond: Voluntary.

Frequency of response: Biennial.

Estimated total annual responses: 150.

Estimated average completion time per response: 10 minutes.

Estimated annual reporting burden: 26 hours.

Estimated annual nonhour cost burden: $0.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that OMB will be able to do so.

Dated: August 20, 2009.
Cartina Miller,
NPS Information Collection Clearance Officer.

[FR Doc. E9-20436 Filed 8-24-09; 8:45 am]

BILLING CODE 4310-EM-P